DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama:
Baldwin (FEMA Docket No.: B-2059). | Town of Loxley (19-04-6434P). | The Honorable Billy Middleton, Mayor, Town of Loxley, P.O. Box 9, Loxley, AL 36551. | Building Department, 1089 South Hickory Lane, Loxley, AL 36551. | Sep. 28, 2020 | 010009
Madison (FEMA Docket No.: B-2044) | City of Madison (19-04-6821P). | The Honorable Paul Finley, Mayor, City of Madison, 100 Hughes Road, Madison, AL 35758. | Engineering Department, 100 Hughes Road, Madison, AL 35758. | Oct. 5, 2020 | 010308
Madison (FEMA Docket No.: B-2044). | Unincorporated areas of Madison County (19-04-6821P). | The Honorable Dale W. Strong, Chairman, Madison County Commission, 100 North Side Square, Huntsville, AL 35801. | Madison County Public Works Department, 266-C Shields Road, Huntsville, AL 35811. | Oct. 5, 2020 | 010151
St. Clair (FEMA Docket No.: B-2059). | City of Springville (19-04-5233P). | The Honorable Butch Isley, Mayor, City of Springville, P.O. Box 919, Springville, AL 35146. | City Hall, 6327 U.S. Highway 11, Springville, AL 35146. | Sep. 25, 2020 | 010289
Colorado:
Arapahoe (FEMA Docket No.: B-2040). | City of Aurora (19-08-0731P). | The Honorable Mike Coffman, Mayor, City of Aurora, 15151 East Alameda Parkway, Aurora, CO 80012. | Public Works Department, 15151 East Alameda Parkway, Aurora, CO 80012. | Oct. 2, 2020 | 080002
Arapahoe (FEMA Docket No.: B-2042). | City of Aurora (20-08-0058P). | The Honorable Mike Coffman, Mayor, City of Aurora, 15151 East Alameda Parkway, Aurora, CO 80012. | Public Works Department, 15151 East Alameda Parkway, Aurora, CO 80012. | Oct. 9, 2020 | 080002
Arapahoe (FEMA Docket No.: B-2040). | City and County of Denver (19-08-0731P). | The Honorable Michael B. Hancock, Mayor, City and County of Denver, 1437 North Bannock Street, Room 350, Denver, CO 80202. | Department of Public Works, 201 West Colfax Avenue, Denver, CO 80202. | Oct. 2, 2020 | 080046
Arapahoe (FEMA Docket No.: B-2042). | Unincorporated areas of Arapahoe County (20-08-0058P). | The Honorable Nancy N. Sharpe, Chair, Arapahoe County, Board of Commissioners, 5334 South Prince Street, Littleton, CO 80120. | Arapahoe County Public Works and Development Department, 6924 South Lima Street, Centennial, CO 80112. | Oct. 9, 2020 | 080011
Jefferson (FEMA Docket No.: B-2043). | City of Arvada (19-08-0970P). | The Honorable Marc Williams, Mayor, City of Arvada, 8101 Ralston Road, Arvada, CO 80002. | Engineering Department, 8101 Ralston Road, Arvada, CO 80002. | Oct. 9, 2020 | 085072
Jefferson (FEMA Docket No.: B-2043). | Unincorporated areas of Jefferson County (19-08-0970P). | The Honorable Lesley Dahlkemper, Chairman, Jefferson County, Board of Commissioners, 100 Jefferson County Parkway, Suite 5550, Golden, CO 80419. | Jefferson County Department of Planning and Zoning, 100 Jefferson County Parkway, Suite 3550, Golden, CO 80419. | Oct. 9, 2020 | 080087
Jefferson (FEMA Docket No.: B-2042). | Unincorporated areas of Jefferson County (20-08-0630P). | The Honorable Lesley Dahlkemper, Chairman, Jefferson County Board of Commissioners, 100 Jefferson County Parkway, Suite 5550, Golden, CO 80419. | Jefferson County Department of Planning and Zoning, 100 Jefferson County Parkway, Suite 3550, Golden, CO 80419. | Oct. 9, 2020 | 080087
Connecticut:
Fairfield (FEMA Docket No.: B-2044). | Town of Darien (20-01-0946P). | The Honorable Jayme J. Stevenson, First Selectman, Town of Darien Board of Selectmen, 2 Renshaw Road, Room 202, Darien, CT 06820. | Planning and Zoning Department, 2 Renshaw Road, Darien, CT 06820. | Oct. 2, 2020 | 090005
Fairfield (FEMA Docket No.: B-2044). | Town of Westport (20-01-0945P). | The Honorable James Marpe, First Selectman, Town of Westport Board of Selectmen, 110 Myrtle Avenue, Westport, CT 06880. | Planning and Zoning Department, 110 Myrtle Avenue, Room 203, Westport, CT 06880. | Oct. 5, 2020 | 090019
Florida:
Indian River (FEMA Docket No.: B-2044). | Unincorporated areas of Indian River County (19-04-6224P). | The Honorable Susan Adams, Chair, Indian River County Board of Commissioners, 1801 27th Street, Vero Beach, FL 32960. | Indian River County Community Development Department, 1801 27th Street, Vero Beach, FL 32960. | Oct. 9, 2020 | 120119
Lee (FEMA Docket No.: B-2040). | City of Sanibel (20-04-3626P). | The Honorable Kevin Ruane, Mayor, City of Sanibel, 800 Dunlop Road, Sanibel, FL 33957. | Community Services Department, 800 Dunlop Road, Sanibel, FL 33957. | Sep. 29, 2020 | 120402
Monroe (FEMA Docket No.: B-2042). | Unincorporated areas of Monroe County (20-04-2206P). | The Honorable Heather Carruthers, Mayor, Monroe County Board of Commissioners, 500 Whitehead Street, Suite 102, Key West, FL 33040. | Monroe County Building Department, 2798 Overseas Highway, Suite 300, Marathon, FL 33050. | Oct. 5, 2020 | 125129
Monroe (FEMA Docket No.: B-2042). | Unincorporated areas of Monroe County (20-04-3627P). | The Honorable Heather Carruthers, Mayor, Monroe County Board of Commissioners, 500 Whitehead Street, Suite 102, Key West, FL 33040. | Monroe County Building Department, 2798 Overseas Highway, Suite 300, Marathon, FL 33050. | Oct. 5, 2020 | 125129
Monroe (FEMA Docket No.: B-2042). | Unincorporated areas of Monroe County (20-04-3628P). | The Honorable Heather Carruthers, Mayor, Monroe County Board of Commissioners, 500 Whitehead Street, Suite 102, Key West, FL 33040. | Monroe County Building Department, 2798 Overseas Highway, Suite 300, Marathon, FL 33050. | Oct. 5, 2020 | 125129
Monroe (FEMA Docket No.: B-2042). | Unincorporated areas of Monroe County (20-04-3629P). | The Honorable Heather Carruthers, Mayor, Monroe County Board of Commissioners, 500 Whitehead Street, Suite 102, Key West, FL 33040. | Monroe County Building Department, 2798 Overseas Highway, Suite 300, Marathon, FL 33050. | Oct. 1, 2020 | 125129
Sarasota (FEMA Docket No.: B-2043). | Town of Longboat Key (20-04-1892P). | Mr. Tom Harmer, Manager, Town of Longboat Key, 501 Bay Isles Road, Longboat Key, FL 34228. | Planning, Zoning and Building Department 600 General Harris Street, Longboat Key, FL 34228. | Sep. 28, 2020 | 125126
Sarasota (FEMA Docket No.: B-2043). | Unincorporated areas of Sarasota County (20-04-1846P). | The Honorable Charles D. Hines, Chairman, Sarasota County Board of Commissioners, 1660 Ringling Boulevard, Sarasota, FL 34236. | Sarasota County Planning and Development Services Department, 1001 Sarasota Center Boulevard, Sarasota, FL 34240. | Sep. 30, 2020 | 125144
Massachusetts: Bristol (FEMA Docket No.: B-2044). | City of Taunton (20-01-0947P). | The Honorable Shaunna O'Connell, Mayor, City of Taunton, 141 Oak Street, Taunton, MA 02780. | Engineering Department, 90 Ingell Street, Taunton, MA 02780. | Oct. 5, 2020 | 250066
North Carolina:
Buncombe (FEMA Docket No.: B-2044). | Unincorporated areas of Buncombe County (20-04-3616P). | The Honorable Brownie Newman, Chairman, Buncombe County Board of Commissioners, 200 College Street, Suite 300, Asheville, NC 28801. | Buncombe County Planning Department, 46 Valley Street, Asheville, NC 28801. | Oct. 8, 2020 | 370031
Wake (FEMA Docket No.: B-2042). | Town of Wake Forest (20-04-3617P). | The Honorable Vivian A. Jones, Mayor, Town of Wake Forest, 301 South Brooks Street, Wake Forest, NC 27587. | Engineering Department, 234 Friendship Chapel Road, Wake Forest, NC 27587. | Oct. 2, 2020 | 370244
Wayne (FEMA Docket No.: B-2049). | City of Goldsboro (20-04-0269P). | The Honorable Chuck Allen, Mayor, City of Goldsboro, 200 North Center Street, Goldsboro, NC 27530. | City Hall, 200 North Center Street, Goldsboro, NC 27530. | Oct. 9, 2020 | 370255
Wayne (FEMA Docket No.: B-2049). | Unincorporated areas of Wayne County (20-04-0269P). | The Honorable E. Ray Mayo, Chairman, Wayne County Board of Commissioners, 224 East Walnut Street, Goldsboro, NC 27530. | Wayne County Planning Department, 134 North John Street, 3rd Floor, Goldsboro, NC 27530. | Oct. 9, 2020 | 370254
Pennsylvania:
Allegheny (FEMA Docket No.: B-2044). | Municipality of Mt. Lebanon (20-03-1146P). | Mr. Keith McGill, Manager, Municipality of Mt. Lebanon, 710 Washington Road, Pittsburgh, PA 15228. | Inspection Department, 710 Washington Road, Pittsburgh, PA 15228. | Oct. 8, 2020 | 421272
Washington (FEMA Docket No.: B-2043). | Township of Union (20-03-1148P). | The Honorable Heather Daerr, Chair, Township of Union Board of Supervisors, 3904 Finleyville-Elrama Road, Finleyville, PA 15332. | Township Hall, 3904 Finleyville- Elrama Road, Finleyville, PA 15332. | Oct. 8, 2020 | 420860
York (FEMA Docket No.: B-2044). | Borough of Hanover (20-03-1145P). | The Honorable William W. Reichart II, President, Borough of Hanover Council, 44 Frederick Street, Hanover, PA 17331. | Borough Hall, 44 Frederick Street, Hanover, PA 17331. | Oct. 5, 2020 | 422212
York (FEMA Docket No.: B-2044). | Township of Penn (20-03-1145P). | The Honorable Justin J. Heiland, President, Township of Penn Board of Commissioners, 20 Wayne Avenue, Hanover, PA 17331. | Zoning Department, 20 Wayne Avenue, Hanover, PA 17331. | Oct. 5, 2020 | 421025
South Carolina: Charleston (FEMA Docket No.: B-2040). | City of Isle of Palms (20-04-2088P). | The Honorable Jimmy Carroll, Mayor, City of Isle of Palms, 1207 Palm Boulevard, Isle of Palms, SC 29451. | Building and Planning Department, 1207 Palm Boulevard, Isle of Palms, SC 29451. | Sep. 28, 2020 | 455416
South Dakota: Lincoln (FEMA Docket No.: B-2044). | City of Harrisburg (20-08-0017P). | The Honorable Julie Burke-Van Luvanee, Mayor, City of Harrisburg, 301 East Willow Street, Harrisburg, SD 57032. | City Hall, 301 East Willow Street, Harrisburg, SD 57032.57. | Oct. 2, 2020 | 460114
Pennington (FEMA Docket No.: B-2044). | City of Rapid City (19-08-0857P). | The Honorable Steve Allender, Mayor, City of Rapid City, 300 6th Street, Rapid City, SD 57701. | Public Works Department, Engineering Services Division, 300 6th Street, Rapid City, SD 57701. | Oct. 5, 2020 | 465420
Texas:
Chambers (FEMA Docket No.: B-2040). | City of Cove (19-06-3771P). | The Honorable Leroy Stevens, Mayor, City of Cove, 7911 Cove Loop Road, Cove, TX 77523. | Chambers County Road and Bridge Department, 201 Airport Road, Anahuac, TX 77514. | Oct. 2, 2020 | 481510
Chambers (FEMA Docket No.: B-2040). | City of Mont Belvieu (19-06-3771P). | The Honorable Nick Dixon, Mayor, City of Mont Belvieu, P.O. Box 1048, Mont Belvieu, TX 77580. | City Hall, 11607 Eagle Drive, Mont Belvieu, TX 77580. | Oct. 2, 2020 | 480122
Chambers (FEMA Docket No.: B-2040). | Unincorporated areas of Chambers County (19-06-3771P). | The Honorable Jimmy Sylvia, Chambers County Judge, P.O. Box 939, Anahuac, TX 77514. | Chambers County Road and Bridge Department, 201 Airport Road, Anahuac, TX 77514. | Oct. 2, 2020 | 480119
Collin (FEMA Docket No.: B-2042). | City of Frisco (20-06-0590P). | The Honorable Jeff Cheney, Mayor, City of Frisco, 6101 Frisco Square Boulevard, Frisco, TX 75034. | Engineering Services Department, 6101 Frisco Square Boulevard, Frisco, TX 75034. | Sep. 28, 2020 | 480134
Comal (FEMA Docket No.: B-2040). | City of New Braunfels (20-06-1144P). | The Honorable Barron Casteel, Mayor, City of New Braunfels, 550 Landa Street, New Braunfels, TX 78130. | City Hall, 550 Landa Street, New Braunfels, TX 78130. | Sep. 30, 2020 | 485493
Comal (FEMA Docket No.: B-2042). | City of New Braunfels (20-06-2307P). | The Honorable Barron Casteel, Mayor, City of New Braunfels, 550 Landa Street, New Braunfels, TX 78130. | City Hall, 550 Landa Street, New Braunfels, TX 78130. | Oct. 5, 2020 | 485493
Comal (FEMA Docket No.: B-2042). | Unincorporated areas of Comal County (20-06-2307P). | The Honorable Sherman Krause, Comal County Judge, 100 Main Plaza, New Braunfels, TX 78130. | Comal County Engineering Department, 195 David Jonas Drive, New Braunfels, TX 78132. | Oct. 5, 2020 | 485463
Dallas (FEMA Docket No.: B-2040). | City of Carrollton (19-06-3556P). | Ms. Erin Rinehart, Manager, City of Carrollton, 1945 East Jackson Road, Carrollton, TX 75006. | Engineering Department, 1945 East Jackson Road, Carrollton, TX 75006. | Sep. 28, 2020 | 480167
Denton (FEMA Docket No.: B-2043). | City of Denton (20-06-2308P). | The Honorable Chris Watts, Mayor, City of Denton, 215 East McKinney Street, Denton, TX 76201. | Engineering Department, 901-A Texas Street, Denton, TX 76209. | Oct. 8, 2020 | 480194
Denton (FEMA Docket No.: B-2043). | Town of Argyle (19-06-2972P). | The Honorable Donald Moser, Mayor, Town of Argyle, P.O. Box 609, Argyle, TX 76226. | Town Hall, 308 Denton Street, Argyle, TX 76226. | Oct. 9, 2020 | 480775
Denton (FEMA Docket No.: B-2043). | Unincorporated areas of Denton County (20-06-2308P). | The Honorable Andy Eads, Denton County Judge, 110 West Hickory Street, 2nd Floor, Denton, TX 76201. | Denton County Public Works—Engineering Department, 1505 East McKinney Street, Suite 175, Denton, TX 76209. | Oct. 8, 2020 | 480774
Ellis (FEMA Docket No.: B-2040). | City of Ennis (20-06-2306P). | The Honorable Angeline Juenemann, Mayor, City of Ennis, P.O. Box 220, Ennis, TX 75120. | Inspection Services Department, 108 West Knox Street, Ennis, TX 75119. | Oct. 5, 2020 | 480207
Ellis (FEMA Docket No.: B-2040). | Unincorporated areas of Ellis County (20-06-2306P). | The Honorable Todd Little, Ellis County Judge, 101 West Main Street, Waxahachie, TX 75165. | Ellis County Engineering Department, 109 South Jackson Street, Waxahachie, TX 75165. | Oct. 5, 2020 | 480798
Guadalupe (FEMA Docket No.: B-2042). | City of Cibolo (20-06-2304P). | The Honorable Stosh Boyle, Mayor, City of Cibolo, P.O. Box 826, Cibolo, TX 78108. | City Hall, 200 South Main Street, Cibolo, TX 78108. | Oct. 8, 2020 | 480267
Parker (FEMA Docket No.: B-2042). | City of Willow Park (20-06-0011P). | The Honorable Doyle Moss, Mayor, City of Willow Park, 516 Ranch House Road, Willow Park, TX 76087. | City Hall, 516 Ranch House Road, Willow Park, TX 76087. | Oct. 7, 2020 | 481164
Tarrant (FEMA Docket No.: B-2040). | City of Grapevine (19-06-3994P). | The Honorable William D. Tate, Mayor, City of Grapevine, P.O. Box 95104, Grapevine, TX 76099. | City Hall, 200 South Main Street, Grapevine, TX 76051. | Sep. 28, 2020 | 480598

[FR Doc. 2020-23973 Filed 10-28-20; 8:45 am]

BILLING CODE 9110-12-P